DEPARTMENT OF STATE

[Public Notice 3293]

Bureau of Educational and Cultural Affairs; Program Title: Small Grants Competition; Grassroots Citizen Participation in Democracy; Request for Proposals

SUMMARY: The Office of Citizen Exchanges, Bureau of Educational and Cultural Affairs of the U.S. Department of State, announces a small grants competition on Citizen Participation in Democracy. U.S. public and private non-profit organizations meeting the provisions described in IRS regulation 26 CFR 1.501(c) may submit proposals to develop exchanges and training programs in the below mentioned countries of Sub-Saharan Africa, the Middle East or Latin America (countries listed under guidelines.)

Program Information

Overview

The Office of Citizen Exchanges, Bureau of Educational and Cultural Affairs of the U.S. Department of State, announces an FY2000 small grants competition for local community-based organizations interested in internationalizing their educational, professional and cultural efforts or gaining support for ongoing international exchange programs. This competition is aimed at local-level grassroots organizations that have not received prior funding directly from the Bureau. Creative and innovative ideas are sought.

One goal of this initiative is to encourage smaller organizations or local units of national groups to expand the scope of their work by building linkages with counterparts in certain other countries. This may be accomplished by providing professional experience and exposure to American life and culture through internships, workshops and other learning-sharing experiences hosted by local institutions and home stays with members of the community. The experiences also will provide Americans the opportunity to learn about different cultures. Travel under these grants may constitute a two-way exchange or provide only for foreigners to visit the United States. The program is not academic in nature; it is designed to provide practical, hands-on experience in U.S. public/private sector settings that may be adapted to an individual's institution upon return home. Proposals may combine elements of professional enrichment, job shadowing and internships appropriate to the language ability and interests of the participants.

Exchanges and training programs supported by the institutional grants from the Bureau should operate at two levels: they should enhance partnerships, and they should offer practical information to individuals and groups to assist them with their professional and volunteer responsibilities. Viable proposals usually have the following characteristics:

• A strong existing partnership between a U.S. organization and an in-country institution;

• A proven track record of working in the proposed issue area;

• Cost-sharing from U.S. and/or in-country sources, including donations of air fares, hotel and/or housing costs, ground transportation, interpreters, etc.;

• Experienced staff with language facility; a clear, convincing plan showing how long-term results will be accomplished as a result of the activity funded by the grant;

• A follow-on plan beyond the scope of the Bureau grant.

The Bureau wants to see tangible forms of time and money contributed to the project by the prospective grantee institution, as well as funding from third party sources. If proposals received are of equal strength, preference will go to those with higher cost-sharing.

Exchanges should be two-to-three weeks in length. It is anticipated that programs will be conducted between September 2000 and August 2001. Successful projects will enhance the participants' skills in leadership, participatory democracy, NGO development, and open the potential for longer-term partnerships.

Applicants should identify the local organizations and individuals in the counterpart country with whom they are proposing to collaborate and describe in detail previous cooperative programming and/or contacts. Specific information about the counterpart organizations' activities and accomplishments is required and should be included in the section on Institutional Capacity.

This year the small grants competition will be focused on one over-all theme of Grassroots Citizen Participation in Democracy. Under this theme, consideration will be given to related priority topics. Suggestions are listed below.

Grassroots Citizen Participation in Democracy

Democracy takes root and flourishes where there is grass-roots participation in decision-making and citizen participation is valued and practiced. Since most civic activities are concerned with community-based issues that directly affect individuals' lives, local issues and institutions should be the focus of the exchange program. Single-country activities should be built around a specific theme or target audience. Target audiences may include, but are not limited to: women in business, NGO leaders, professional women, special interest groups (i.e. ethnic minorities, people with disabilities, economically disadvantaged persons). The Bureau is looking for programs that will result in the creation of a sustainable professional association or coalition with activities continuing after the grant period.

Priority Topics

Strengthening Grassroots Democracy: Training NGO leadership and addressing organizational governance issues; building coalitions; networking; lobbying elected officials; media strategies; fund raising; volunteerism; addressing civic values; NGO roles in mediating conflict in the community.

Equal Treatment of Women Under the Law: Educating women about existing anti-discriminatory laws, including domestic violence legislation; understanding legal rights and options; addressing attitudes of the judiciary; building community support to combat violence against women, including trafficking in Women and children.

Women and Political Leadership: running for elective office and/or managing electoral campaigns; developing a media strategy; public speaking/communication skills; meeting challenges and responsibilities of public office once elected.

Local Governance: strengthening local governments and making them more responsive to local needs; local government administration, including budget development, financial management; tax policies and mechanisms; election practices; management of municipal services; committee and staff structures; drafting of legislation and relationships with regional and national governments.

Guidelines

All projects should focus on one country, promote local community contacts with that country and address one or more of the priority topics described above. Since most civic activities are concerned with community-based issues that directly affect individuals? lives, local issues and institutions should be the focus of proposed exchange programs. Target audiences may include, but are not limited to: NGO leaders, women in business, professional women, special interest groups (i.e. ethnic minorities, those with disabilities or economically disadvantaged). Applicants should carefully note the following restrictions for proposals in these specific geographic areas:

Africa

Only proposals for Kenya, Madagascar, Malawi, Tanzania, Uganda, and Zambia will be considered. Contact for African programs: Orna Blum, 202/260-2754; E-Mail {oblum@usia.gov}

Middle East

Only proposals for Kuwait, Oman, Qatar, the United Arab Emirates and Yemen will be considered. Contact for Middle East programs: Tom Johnston, 202/619-5325; E-Mail {tjohnsto@usia.gov}

Latin America

Only proposals for Colombia, Venezuela and Chile will be considered.

Contact for Latin American programs: Laverne Johnson, 202/619-5337; E-Mail {ljohnson@usia.gov}

Budget Guidelines

The grant-making process will be specifically streamlined to accommodate first-time applicants. Priority will be given to grant proposals with budgets ranging from $15,000 to $40,000. No proposal above $50,000 will be eligible. Contingent on budget uncertainties, approximately, two hundred and fifty-thousand dollars has been allotted for this competition. Awards will be announced around August 1, 2000.

Allowable costs include the following:

(1) Program Expenses.

(2) Administrative Expenses including indirect costs.

Please refer to the Solicitation Package for complete budget guidelines and formatting instructions.

Announcement Title and Number: All correspondence with the Bureau concerning this RFP should reference the above title and number ECA/PE/C-00-47.

FOR FURTHER INFORMATION, CONTACT: The Office of Citizen Exchanges, ECA/PE/C, Room 224, U.S. Department of State, 301 4th Street, S.W., Washington, D.C. 20547, telephone number 202/619-5348 and fax number 202/260-0440 , Internet address to request a Solicitation Package (see above regional contacts). The Solicitation Package contains detailed award criteria, required application forms, specific budget instructions, and standard guidelines for proposal preparation. Please specify Bureau Program Officer listed above on all other inquiries and correspondence.

Please read the complete Federal Register announcement before sending inquiries or submitting proposals. Once the RFP deadline has passed, Bureau staff may not discuss this competition with applicants until the proposal review process has been completed.

To Download a Solicitation Package via Internet

The entire Solicitation Package may be downloaded from the Bureau's website at http://exchanges.state.gov/education/rfps. Please read all information before downloading.

Deadline for Proposals

All proposal copies must be received at the Bureau of Educational and Cultural Affairs by 5 p.m. Washington, D.C. time on Friday, June 2, 2000. Faxed documents will not be accepted at any time. Documents postmarked the due date but received on a later date will not be accepted. Each applicant must ensure that the proposals are received by the above deadline.

Applicants must follow all instructions in the Solicitation Package. The original and ten copies of the application should be sent to: U.S. Department of State, SA-44, Bureau of Educational and Cultural Affairs, Ref.: ECA/PE/C-00-47, Program Management, ECA/EX/PM, Room 336, 301 4th Street, SW, Washington, DC 20547.

Applicants must also submit the “Executive Summary” and “Proposal Narrative” sections of the proposal on a 3.5” diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the 'Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should reflect advancement of this goal in their program contents, to the full extent deemed feasible.

Year 2000 Compliance Requirement (Y2K Requirement)

The Year 2000 (Y2K) issue is a broad operational and accounting problem that could potentially prohibit organizations from processing information in accordance with Federal management and program specific requirements including data exchange with the Bureau. The inability to process information in accordance with Federal requirements could result in grantees' being required to return funds that have not been accounted for properly.

The Bureau therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Review Process

In support of first-time applicants, the grant proposal, budget and review process has been modified for this competition. The proposal narrative should not exceed six pages double-spaced and be developed around the review criteria below. Budget should be contained on one page. Please follow the enclosed Request for Proposal(RFP) Proposal Submission Instructions(PSI). Proposals will be reviewed in two tiers. First, all proposals will be read and reviewed by a qualified staff team from the Office of Citizen Exchanges and the respective Department of State regional bureaus. Second, the most competitive will be forwarded to embassies overseas and to panels of Bureau-wide State Department officers for formal advisory review. Non-finalists will be advised at this point in the process. Final funding decisions will be made at the discretion of the Under Secretary of State for Public Diplomacy and Public Affairs. Final technical authority for assistance awards (grants or cooperative agreements) resides with the Citizen Exchanges Grants Officer.

Review Criteria

Technically eligible applications will be competitively reviewed according to the criteria stated below. These criteria are not rank ordered and all carry equal weight in the proposal evaluation:

1. Quality of program idea and ability to achieve objectives: Program objectives should be clearly and precisely stated. Applications should respond to priorities in this announcement and articulate the organization's ability to successfully carry out objectives. Staff and participant responsibilities and timetable should be clearly designated.

2. Cost effectiveness and Cost sharing: Administrative costs should be kept low. Proposals should maximize cost-sharing through support and in-kind contributions.

3. Monitoring/Reporting: Proposals should provide a brief plan for submitting written reports midway through the program and at the end. Reports should include accomplishments, problems encountered, and impact on American and overseas communities.

4. Support of Diversity: Proposals should demonstrate substantive support of the Bureau's policy on diversity. Achievable and relevant features should be cited in both program administration (selection of participants, program venue and program evaluation) and program content (orientation and wrap-up sessions, program meetings, resource materials and follow-up activities).

5. Project Evaluation: Proposals should include a plan to evaluate the activity's success, both as the activities unfold and at the end of the program. A draft survey questionannaire or other technique plus description of a methodology to use to link outcomes to original project objectives is recommended. Successful applicants will be expected to submit intermediate reports after each project component is concluded or quarterly, whichever is less frequent.

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations...and thus to assist in the development of friendly, sympathetic and peaceful relations between the United States and the other countries of the world.” The funding authority for the program above is provided through legislation.

Notice

The terms and conditions published in this RFP are binding and may not be modified by any Bureau representative. Explanatory information provided by the Bureau that contradicts published language will not be binding. Issuance of the RFP does not constitute an award commitment on the part of the Government.

The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 10, 2000.
Evelyn S. Lieberman,
Under Secretary for Public Diplomacy and Public Affairs, U.S. Department of State.

[FR Doc. 00-9800 Filed 4-18-00; 8:45 am]

BILLING CODE 4710-11-P